DEPARTMENT OF EDUCATION

[Docket No.: ED-2024-SCC-0082]

Agency Information Collection Activities; Submission to the Office of Management and Budget for Review and Approval; Comment Request; Rural, Insular, and Native Achievement Programs Progress Update Protocol

AGENCY: Office of Elementary and Secondary Education (OESE), Department of Education (ED).

ACTION: Notice.

SUMMARY: In accordance with the Paperwork Reduction Act (PRA) of 1995, the Department is proposing a revision of a currently approved information collection request (ICR).

DATES: Interested persons are invited to submit comments on or before October 4, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Marcos Cerdeira, 202-453-5819.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Rural, Insular, and Native Achievement Programs Progress Update Protocol.

OMB Control Number: 1810-0762.

Type of Review: A revision of a currently approved ICR.

Respondents/Affected Public: State, Local, and Tribal Governments.

Total Estimated Number of Annual Responses: 58.

Total Estimated Number of Annual Burden Hours: 58.

Abstract: This submission is a request for a revised information collection. The Rural, Insular, and Native Achievement Programs (RINAP) administers Section 1121 of Title I, Part A of the ESEA; CARES Act Outlying Areas; Title III of CRRSA Outlying Areas, Sections 2005 and 11006(2-3) of the ARP; Title V, Part B of the ESEA (Rural Education Achievement Program), Title VI, Part B of the ESEA (Native Hawaiian Education); Title VI, Part C of the ESEA (Alaska Native Education); and the Supporting Americas School Infrastructure program. Periodic progress updates, phone, virtual, or in-person conversations during a fiscal year with authorized representatives and project directors help ensure grantees are making progress toward meeting program goals and objectives. The information shared with RINAP helps inform the selection and delivery of technical assistance to grantees and aligns structures, processes, and routines so RINAP can monitor the connection between grant administration and intended outcomes. Progress updates also allow RINAP to proactively engage with grantees to identify potential compliance issues ahead of more comprehensive monitoring, decreasing the need for enforcement action and minimizing burden for grantees.

Dated: August 29, 2024.
Kun Mullan,
PRA Coordinator, Strategic Collections and Clearance, Governance and Strategy Division, Office of Chief Data Officer, Office of Planning, Evaluation and Policy Development.

[FR Doc. 2024-19799 Filed 9-3-24; 8:45 am]

BILLING CODE 4000-01-P